DEPARTMENT OF COMMERCE

Foreign-Trade Zones Board

[Docket 45-2009]

Foreign-Trade Zone 17—Kansas City, KS; Application for Reorganization/Expansion Under Alternative Site Framework

An application has been submitted to the Foreign-Trade Zones (FTZ) Board (the Board) by the Greater Kansas City Foreign Trade Zone, Inc., grantee of FTZ 17, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 22, 2009.

FTZ 17 was approved by the Board on December 20, 1973 (Board Order 97, 39 FR 26, 1/2/74), and expanded in January 1989 (Board Order 428, 54 FR 5992, 2/7/89), in January 1993 (Board Order 631, 58 FR 6112, 1/26/93), and in October 1997 (Board Order 925, 62 FR 55574, 10/27/97). The current zone project includes the following sites: Site 1 (7.5 acres)—located at 6500 Inland Drive, Kansas City; Site 2 (5.1 acres)—located at 5203 Speaker Road, Kansas City; Site 3 (5 acres)—located at 30 Funston Road, Kansas City; Site 4 (50,000 sq. ft.)—located at 830 Kindleberger Road, Kansas City; Site 5 (21 acres, 2 parcels)—within the Leavenworth Area Business Center, located at 13th and Eisenhower Road, Leavenworth; Site 6 (966 acres)—Forbes Field Airport/Topeka Air Industrial Park, 6700 South Topeka Boulevard, Topeka; Site 7 (106 acres)—The Phillip Billard Airport/Industrial Park Complex, 3600 Sardue, Topeka; and, Site 8 (50 acres)—Coleman Corporation within the Midwest Commerce Center, 17150 Mercury Street, Gardner. (There is an application pending with the Board to expand Site 8 to include the entire 156-acre Midwest Commerce Center (Doc. 16-2009).)

The grantee's proposed service area under the ASF would be Wyandotte, Johnson, Douglas, Shawnee, Leavenworth and Miami Counties, Kansas. If approved, the grantee would be able to serve sites throughout the service area based on companies' needs for FTZ designation. The proposed service area is within and adjacent to the Kansas City Customs and Border Protection port of entry.

The applicant is requesting authority to reorganize its existing zone project as follows: Sites 2, 3, 5, 6, 7 and 8 would become “magnet” sites; Site 4 would become a “usage-driven” site; and, Site 1 would be removed from the zone project due to changed circumstances. The applicant is also requesting approval of two “usage-driven” sites in Johnson County: Proposed Site 9 (6.64 acres)—Bushnell Outdoor Products, 9200 Cody, Overland Park; and, Proposed Site 10 (2.4 acres)—Bushnell Outdoor Products, 10716 West 78th Street, Shawnee. Proposed Site 9 is located within the Congleton Industrial Park and proposed Site 10 is located within the Nieman Business Park.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is December 28, 2009. Rebuttal comments in response to material submitted during the foregoing period may be submitted during the subsequent 15-day period to January 12, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: October 22, 2009.
Andrew McGilvray,
Executive Secretary.

[FR Doc. E9-26101 Filed 10-28-09; 8:45 am]

BILLING CODE P